DEPARTMENT OF THE INTERIOR

Bureau of Land Management

[LLWYR0000.L16100000.DP0000.LXSS042K0000]

Notice of Availability of the Proposed Resource Management Plan and Final Environmental Impact Statement for the Bighorn Basin Resource Management Plan Revision, Cody and Worland Field Offices, Wyoming

AGENCY: The Bureau of Land Management, Interior.

ACTION: Notice of availability.

SUMMARY: In accordance with the National Environmental Policy Act of 1969 (NEPA), as amended, and the Federal Land Policy and Management Act of 1976 (FLPMA), as amended, the Bureau of Land Management (BLM) has prepared a Proposed Resource Management Plan (RMP) and Final Environmental Impact Statement (EIS) for the Cody and Worland Field Offices and by this notice is announcing its availability.

DATES: The BLM planning regulations state that any person who meets the conditions as described in the regulations may protest the BLM's Proposed RMP/Final EIS. A person who meets the conditions and files a protest must file the protest within 30 days of the date that the Environmental Protection Agency publishes its notice of availability in the Federal Register.

ADDRESSES: Copies of the Bighorn Basin Proposed RMP/Final EIS have been sent to affected Federal, State, Tribal, and local Government agencies and to other stakeholders and members of the public. Copies of the Proposed RMP/Final EIS are available for public inspection at:

• The Bureau of Land Management, Wyoming State Office, 5353 Yellowstone Road, Cheyenne, Wyoming 82009

• The Bureau of Land Management, Cody Field Office, 1002 Blackburn Avenue, Cody, Wyoming 82414

• The Bureau of Land Management, Worland Field Office, 101 South 23rd Street, Worland, Wyoming 82401

Interested persons may also review the Proposed RMP/Final EIS on the internet at http://www.blm.gov/wy/st/en/programs/Planning/rmps/bighorn.html. All protests must be in writing and mailed to one of the following addresses:

Regular Mail: BLM Director (210), Attention: Protest Coordinator, P.O. Box 71383, Washington, DC 20024-1383.

Overnight Delivery: BLM Director (210), Attention: Protest Coordinator, 20 M Street SE., Room 2134LM, Washington, DC 20003.

FOR FURTHER INFORMATION CONTACT: Holly Elliott, RMP Project Manager, telephone: 307-347-5193; address: 101 South 23rd Street, Worland, Wyoming 82401; email: helliott@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Planning Area includes lands within the BLM Cody and Worland Field Offices' administrative boundaries, in all of Big Horn, Park, and Washakie counties, and most of Hot Springs County in north-central Wyoming. The Planning Area includes all lands, regardless of jurisdiction, totaling 5.6 million acres; however, the BLM will only make decisions on lands that fall under the BLM's jurisdiction. Lands within the Planning Area under the BLM's jurisdiction make up the Decision Area. The Decision Area consists of BLM-administered surface, totaling 3.2 million acres, and the Federal mineral estate, totaling 4.2 million acres. The revised RMP will replace the Washakie and Grass Creek RMPs in the Worland Field Office, Wyoming, and the Cody RMP in the Cody Field Office, Wyoming.

The Proposed RMP/Final EIS includes a series of management actions, within six management alternatives, designed to address management challenges and issues raised during scoping, including, but not limited to: recreation, areas of critical environmental concern (ACECs), wildlife habitats, livestock grazing, energy development, air quality and global climate change, and wilderness characteristics. Protection of Greater Sage-Grouse habitat is analyzed in all alternatives considered. The six alternatives are:

• Alternative A (No Action Alternative): Continues existing management practices;

• Alternative B: Fosters conservation of natural and cultural resources while providing for compatible development and use;

• Alternative C: Emphasizes resource development and use;

• Alternative D (Proposed Plan): Provides development opportunities and protects sensitive resources;

• Alternative E: Provides conservation of natural and cultural resources and protection of Greater Sage-Grouse Key Habitat Areas through the designation of an ACEC; and

• Alternative F: Provides development opportunities and protects sensitive resources and protection of Greater Sage-Grouse Core Habitat Areas through the designation of an ACEC.

The Notice of Intent (NOI) to prepare the Bighorn Basin RMP/EIS was published in the Federal Register on October 17, 2008, and the Draft RMP/EIS was released to the public on April 22, 2011. On July 12, 2013 the Supplement to the Draft RMP/EIS was published in the Federal Register to include Alternatives E and F.

Comments on the Draft RMP/EIS and Supplemental Draft EIS received from the public and internal BLM review were considered and incorporated as appropriate into the proposed plan. As modified, Alternative D is now presented as the Proposed Bighorn Basin RMP in the Proposed RMP/Final EIS.

Alternative D generally allows resource use if the activity can be conducted in a manner that conserves physical, biological, heritage and visual resources. Alternative D proposes ACEC designations for:

• Big Cedar Ridge (264 acres): Value(s) of Concern—Paleontological. Proposed Use Limitation(s)—Right-of-way (ROW) exclusion area, no-surface occupancy (NSO) restriction applied to fluid mineral leases, closed to geophysical exploration, closed to mineral material disposals and related exploration and development activities, motorized vehicle use limited to existing roads and trails, and pursue a withdrawal from appropriation under the mining laws.

• Red Gulch Dinosaur Tracksite (1,798 acres): Value(s) of Concern—Paleontological. Proposed Use Limitation(s)—Closed to surface disturbing activities except to enhance public education, heavy equipment restriction on fire suppression activities, motorized vehicle use limited to designated roads and trails, interpretive area closed to livestock grazing, an NSO restriction applied to fluid mineral leases, and pursue a withdrawal from appropriation under the mining laws.

• Sheep Mountain Anticline (13,260 acres): Value(s) of Concern—Geologic, Caves, Cultural and Scenic. Proposed Use Limitation(s)—Motorized vehicle use limited to designated roads and trails, generally closed to surface disturbing activities, unavailable for fluid mineral leasing, and pursue a withdrawal from appropriation under the mining laws.

• Spanish Point Karst (11,854 acres): Value(s) of Concern—Caves, Recreational, Sinking Stream Segments and Water Quality. Proposed Use Limitation(s)—Unavailable for fluid mineral leasing, closed to geophysical exploration, closed to off highway vehicle use, ROW avoidance/mitigation area, and pursue a withdrawal from appropriation under the mining laws.

• Brown/Howe Dinosaur Area (5,521 acres): Value(s) of Concern—Paleontological. Proposed Use Limitation(s)—Closed to mineral material disposals, unavailable for fluid mineral leasing, ROW avoidance/mitigation area, and pursue a withdrawal from appropriation under the mining laws.

• Carter Mountain (10,947 acres): Value(s) of Concern—Vegetation, Wildlife, Cultural, Recreational, Special Status Species, Watershed and Soils. Proposed Use Limitation(s)—Heavy equipment restriction on fire suppression activities, ROW avoidance/mitigation area, motorized vehicle use limited to designated roads and trails, closed to surface-disturbing activities on slopes greater than 7 percent, unavailable for fluid mineral leasing, closed to mineral material disposals, and pursue a withdrawal from appropriation under the mining laws.

• Five Springs Falls (163 acres): Value(s) of Concern—Recreational, Scenic, Special Status Species, Geologic and Public Safety. Proposed Use Limitation(s)—Heavy equipment restriction on fire suppression activities, ROW avoidance/mitigation area, climbing not allowed on the cliff that forms the falls, motorized vehicle use limited to designated roads and trails, and unavailable for fluid mineral leasing.

• Little Mountain (21,478 acres): Value(s) of Concern—Caves, Cultural, Paleontological, Scenic, Recreational, Special Status Species, Vegetation and Wildlife. Proposed Use Limitation(s)—Heavy equipment restriction for fire suppression activities, motorized vehicle use limited to designated roads and trails, a ROW avoidance/mitigation area, unavailable for fluid mineral leasing, and pursue a withdrawal from appropriation under the mining laws.

• Upper Owl Creek (13,572 acres): Value(s) of Concern—Cultural, Fish, Recreational, Scenic, Soils, Special Status Species, Vegetation and Wildlife. Proposed Use Limitation(s)—Motorized vehicle use limited to designated roads and trails, closed to surface-disturbing activities, pursue a withdrawal from appropriation under the mining laws for 13,238 acres, ROW avoidance/mitigation area, and unavailable for fluid mineral leasing.

• Clarks Fork Canyon (4,759 acres): Value(s) of Concern—Geologic, Open Space, Recreational, Special Status Species, and Wildlife. Proposed Use Limitation(s)—Close 1,211 acres to motorized vehicle use with the remainder limited to designated roads and trails, closed to surface-disturbing activities, closed to mineral material disposals, closed to geophysical exploration, unavailable for fluid mineral leasing, pursue a withdrawal from appropriation under the mining laws, renewable energy ROW exclusion area, and ROW avoidance/mitigation area.

• Sheep Mountain (25,962 acres): Value(s) of Concern—Special Status Species, Vegetation and Wildlife. Proposed Use Limitation(s)—Motorized vehicle use limited to designated roads and trails, unavailable for fluid mineral leasing, closed to mineral material disposals, pursue a withdrawal from appropriation under the mining laws, closed to surface-disturbing activities, and ROW avoidance/mitigation area.

• Paleocene, Eocene Thermal Maximum (14,913 acres): Value(s) of Concern—Paleontological. Proposed Use Limitation(s)—NSO restriction applied to fluid mineral leases, and closed to mineral material disposals.

The Proposed plan also makes a determination that 20 waterways (92 miles) are not suitable for WSR designation and releases those eligible waterways from further interim protection.

The Bighorn Basin Proposed RMP/Final EIS is one of a total of 15 separate EISs that make up the BLM and Forest Service National Greater Sage-Grouse Planning Strategy. Greater-Sage Grouse habitat within the planning area consists of:

• Priority Habitat Management Area (PHMA)—Areas identified as having the highest conservation value for maintaining sustainable greater sage-grouse populations; include breeding, late brood-rearing, and winter concentration areas.

• General Habitat Management Area (GHMA)—Areas of seasonal or year-round habitat outside of PHMA.

Alternative D supports management of greater sage-grouse seasonal habitats and maintaining habitat connectivity to achieve population objectives. Alternative D would limit or eliminate new surface disturbance in PHMA, while minimizing disturbance in GHMA. Alternative D is also consistent with guidelines provided in the Governor's Sage-Grouse Implementation Team's Core Population Area strategy and the Governor's Executive Order (WY EO 2011-05).

The BLM and Forest Service, via the Western Association of Fish and Wildlife Agencies (WAFWA) Management Zone Greater Sage-Grouse Conservation Team, will develop a Regional Mitigation Strategy to guide the application of the mitigation hierarchy to address impacts within that Zone. The Regional Mitigation Strategy should consider any State-level greater sage-grouse mitigation guidance that is consistent with the requirements. The Regional Mitigation Strategy will be developed in a transparent manner, based on the best science available and standardized metrics.

Instructions for filing a protest with the Director of the BLM regarding the Proposed RMP/Final EIS may be found in the “Dear Reader” letter of the Proposed RMP/Final EIS for the Bighorn Basin RMP Revision Project and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov.

Before including your address, phone number, email address, or other personal identifying information in your protest, you should be aware that your entire protest—including your personal identifying information—may be made publicly available at any time. While you may ask us in your protest to withhold your personal identifying information from public review, we cannot guarantee that we will be able to do so.

Authority: 40 CFR 1506.6, 40 CFR 1506.10, 43 CFR 1610.2, 43 CFR 1610.5

Mary Jo Rugwell,
Acting State Director, Wyoming.

[FR Doc. 2015-12941 Filed 5-28-15; 8:45 am]

BILLING CODE 4310-22-P